DEPARTMENT OF AGRICULTURE

Forest Service

Land Management Planning Adjustment of Previously Initiated Land Management Plan Revisions for the Pike and San Isabel National Forests and the Cimarron and Comanche National Grasslands, in Colorado and Kansas

AGENCY: The Pike and San Isabel National Forests and the Cimarron and Comanche National Grasslands, USDA Forest Service.

Authority: 36 CFR 219.14(b)(3).

Notice: Resumption of planning and adjustment to the National Forest System Land Management Planning Rule (2008 Planning Rule) for previously-initiated land management plan revisions; the Pike and San Isabel National Forests and the Cimarron and Comanche National Grasslands.

SUMMARY: The USDA Forest Service is resuming preparation of the Pike and San Isabel National Forests land management plan (Forests Plan), and the Cimarron and Comanche National Grasslands land management plan (Grasslands Plan) as directed by the National Forest Management Act (NFMA). Preparation of these two plans, which will replace the single 1984 land and resource management plan (as amended) (1984 Plan) for all four units, was halted when the 2005 Planning Rule was enjoined. A new planning rule (36 CFR 219) was implemented on April 21, 2008, allowing the planning processes to be resumed.

DATES: Resumption is effective upon publication of this notice in the Federal Register.

FOR FURTHER INFORMATION CONTACT: Barb Masinton, 719-553-1475.

SUPPLEMENTARY INFORMATION: The Responsible Official (Forest Supervisor) for the Pike and San Isabel National Forests and the Cimarron and Comanche National Grasslands will resume the previously-initiated land management plan (plan) revisions under the requirements of the 2008 Planning Rule. The plan revisions will be conducted in accordance with all Forest Service directives applicable to the 2008 Planning Rule.

All four units (the Pike and the San Isabel National Forests, and the Cimarron and the Comanche National Grasslands) fall under the 1984 Plan. As part of the revision process, the Responsible Official is preparing two separate plans. The revision of the 1984 Plan was initiated iii 1999 under the 1982 Planning Rule, a process that was transitioned to the 2005 Planning Rule on May 26, 2005 (Federal Register Notice Vol. 70(101), p. 30411). The first of the two plans to be released is the Grasslands Plan. Several public meetings were conducted to provide opportunities for interested parties to collaborate on the development of the Grasslands Plan. A proposed (draft) plan was available for a 90-day public comment period from December 28, 2005 through April 3, 2006, and a pre decisional version was available in March 2007. An objection period was underway when the 2005 Planning Rule was enjoined. The planning process for the second of the two plans, the Forests Plan, was also underway when the 2005 Planning Rule was enjoined; a proposed plan was not yet available for public review.

On March 30, 2007, the federal district court for the Northern District of California enjoined the Forest Service from implementing and using the 2005 Planning Rule until the agency provided notice of the rulemaking and a comment period and conducted an assessment of the rule's effects on the environment and completed consultation under the Endangered Species Act. Plan revisions of both the Forests Plan and the Grasslands Plan were suspended in response to the injunction. On April 21, 2008, the Forest Service adopted a new planning rule-the 2008 Planning Rule (36 CFR 219 (2008)). The 2008 Planning Rule explicitly allows the resumption of plan revisions that followed the requirements of the 2005 Planning Rule (36 CFR part 219 (2005)) based on a finding that the revision process conforms to the 2008 Planning Rule (36 CFR 219. 14(b)(3)(ii)).

Based on the discussions above, I find that the planning actions taken before April 21, 2008 conform to the planning requirements of the 2008 Planning Rule and the plan revision processes undertaken to date for each plan may resume.

The public will continue to be invited to collaborate during the resumed development of each revised plan. For information about the revision of these plans, documents associated with both revision efforts, including schedules, see: http://www.fs.fed.us/r2/psicc/projects/forest_revisionlindex.shtml

Dated: April 23, 2008.
Robert J. Leaverton,
Forest Supervisor.

[FR Doc. E8-9311 Filed 4-28-08; 8:45 am]

BILLING CODE 3410-ES-M